DEPARTMENT OF AGRICULTURE

Foreign Agricultural Service

WTO Agricultural Safeguard Trigger Levels

AGENCY: Foreign Agricultural Service, USDA.

ACTION: Notice of product coverage and trigger levels for safeguard measures provides for in the World Trade Organization (WTO) Agreement on Agriculture.

SUMMARY: This notice lists the updated quantity trigger levels for products, which may be subject to additional import duties under the safeguard provisions of the WTO Agreement on Agriculture. This notice also includes the relevant period applicable for the trigger levels on each of the listed products.

DATES: Effective Date: March 23, 2007.

FOR FURTHER INFORMATION CONTACT: Lana Bennett, Import and Trade Support Programs Division, Foreign Agricultural Service, U.S. Department of Agriculture, Stop 1047, 1400 Independence Avenue, SW., Washington, DC 20250-1047, telephone at (202) 720-0638, or e-mail itspd@fas.usda.gov.

SUPPLEMENTARY INFORMATION: Article 5 of the WTO Agreement on Agriculture provides that additional import duties may be imposed on imports of products subject to tariffication as a result of the Uruguay Round if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article. Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1005 (Jan. 4, 1995). The Secretary of Agriculture further delegated the duty to the Administrator of the Foreign Agricultural Service (7 CFR 2.43(a)(2) (2007)). The Annex to this notice contains the updated quantity trigger levels.

Additional information on the products subject to safeguards and the additional duties which may apply can be found in subchapter IV of Chapter 99 of the Harmonized Tariff Schedule of the United States (2007) and in the Secretary of Agriculture's Notice of Uruguay Round Agricultural Safeguard Trigger Levels, published in the Federal Register at 60 FR 427, (Jan. 4, 1995).

Notice: As provided in section 405 of the Uruguay Round Agreements Act, consistent with Article 5 of the Agreement on Agriculture, the safeguard quantity trigger levels previously notified are superceded by the levels indicated in the Annex to this notice. The definitions of these products were provided in the Notice of Uruguay Round Agricultural Safeguard Trigger Levels, published in the Federal Register at 60 FR 427, (Jan. 4, 1995).

Dated: March 15, 2007.
Michael W. Yost,
Administrator, Foreign Agricultural Service.

Annex

Quantity-Based Safeguard Trigger
Product | Trigger level | Period
Beef | 469,450 mt | January 1, 2007 to December 31, 2007.
Mutton | 2,919 mt | January 1, 2007 to December 31, 2007.
Cream | 3,005,322 liters | January 1, 2007 to December 31, 2007.
Evaporated or Condensed Milk | 6,890,725 kilograms | January 1, 2007 to December 31, 2007.
Nonfat Dry Milk | 585,072 kilograms | January 1, 2007 to December 31, 2007.
Dried Whole Milk | 3,872,863 kilograms | January 1, 2007 to December 31, 2007.
Dried Cream | 22,149 kilograms | January 1, 2007 to December 31, 2007.
Dried Whey/Buttermilk | 48,044 kilograms | January 1, 2007 to December 31, 2007.
Butter | 11,501,939 kilograms | January 1, 2007 to December 31, 2007.
Butter Oil and Butter Substitutes | 8,426,033 kilograms | January 1, 2007 to December 31, 2007.
Dairy Mixtures | 52,446,272 kilograms | January 1, 2007 to December 31, 2007.
Blue Cheese | 5,151,516 kilograms | January 1, 2007 to December 31, 2007.
Cheddar Cheese | 12,656,523 kilograms | January 1, 2007 to December 31, 2007.
American-Type Cheese | 12,208,739 kilograms | January 1, 2007 to December 31, 2007.
Edam/Gouda Cheese | 8,526,313 kilograms | January 1, 2007 to December 31, 2007.
Italian-Type Cheese | 23,435,224 kilograms | January 1, 2007 to December 31, 2007.
Swiss Cheese with Eye Formation | 33,850,685 kilograms | January 1, 2007 to December 31, 2007.
Gruyere Process Cheese | 7,783,826 kilograms | January 1, 2007 to December 31, 2007.
Lowfat Cheese | 2,554,432 kilograms | January 1, 2007 to December 31, 2007.
NSPF Cheese | 55,415,198 kilograms | January 1, 2007 to December 31, 2007.
Peanuts | 15,699 mt | April 1, 2006 to March 31, 2007.
| 15,634 mt | April 1, 2007 to March 31, 2008.
Peanut Butter/Paste | 3,738 mt | January 1, 2007 to December 31, 2007.
Raw Cane Sugar | 1,172,199 mt | October 1, 2006 to September 30, 2007.
| 1,411,011 mt | October 1, 2007 to September 30, 2008.
Refined Sugar and Syrups | 73,889 mt | October 1, 2006 to September 30, 2007.
| 158,544 mt | October 1, 2007 to September 30, 2008.
Blended Syrups | 36 mt | October 1, 2006 to September 30, 2007.
| 29 mt | October 1, 2007 to September 30, 2008.
Articles Over 65% Sugar | 358 mt | October 1, 2006 to September 30, 2007.
| 593 mt | October 1, 2007 to September 30, 2008.
Articles Over 10% Sugar | 18,297 mt | October 1, 2006 to September 30, 2007.
| 17,655 mt | October 1, 2007 to September 30, 2008.
Sweetened Cocoa Powder | 1,008 mt | October 1, 2006 to September 30, 2007.
| 1,083 mt | October 1, 2007 to September 30, 2008.
Chocolate Crumb | 8,391,217 kilograms | January 1, 2007 to December 31, 2007.
Lowfat Chocolate Crumb | 274,366 kilograms | January 1, 2007 to December 31, 2007.
Infant Formula Containing Oligosaccharides | 33,896 kilograms | January 1, 2007 to December 31, 2007.
Mixes and Doughs | 101 mt | October 1, 2006 to September 30, 2007.
| 111 mt | October 1, 2007 to September 30, 2008.
Mixed Condiments and Seasonings | 0 mt | October 1, 2006 to September 30, 2007.
| 0 mt | October 1, 2007 to September 30, 2008.
Ice Cream | 1,700,229 liters | January 1, 2007 to December 31, 2007.
Animal Feed Containing Milk | 71,519 kilograms | January 1, 2007 to December 31, 2007.
Short Staple Cotton | 29,945 kilograms | September 20, 2006 to September 19, 2007.
| 128,095 kilograms | September 20, 2007 to September 19, 2008.
Harsh or Rough Cotton | 0 kilograms | August 1, 2006 to July 31, 2007.
| 0 kilograms | August 1, 2007 to July 31, 2008.
Medium Staple Cotton | 2,361,931 kilograms | August 1, 2006 to July 31, 2007.
| 2,113,814 kilograms | August 1, 2007 to July 31, 2008.
Extra Long Staple Cotton | 8,109,615 kilograms | August 1, 2006 to July 31, 2007.
| 7,045,601 kilograms | August 1, 2007 to July 31, 2008.
Cotton Waste | 7,692 kilograms | September 20, 2006 to September 19, 2007.
| 5,128 kilograms | September 20, 2007 to September 19, 2008.
Cotton, Processed, Not Spun | 26,833 kilograms | September 11, 2006 to September 10, 2007.
| 19,473 kilograms | September 11, 2007 to September 10, 2008.

[FR Doc. 07-1423 Filed 3-22-07; 8:45 am]

BILLING CODE 3410-10-M